DEPARTMENT OF STATE

[Public Notice 3801]

Shipping Coordinating Committee Notice of Meeting

The Shipping Coordinating Committee will conduct an open meeting at 9:30 a.m. on Thursday, December 20, 2001, in Room 6319, at U.S. Coast Guard Headquarters, 2100 Second Street, SW., Washington, DC. The purpose of this meeting will be to review the U.S. positions on the thirty-third session of the International Maritime Organization (IMO) Sub-Committee on Standards of Training and Watchkeeping (STW) to be held at IMO headquarters in London, January 21-25, 2002.

The primary matters to be considered include:

1. Training and certification of maritime pilots;

2. Unlawful practices associated with certificates of competency (i.e., forged certificates);

3. Follow-up Action to the International Convention on Standards of Training, Certification and Watchkeeping for Seafarers, 1978, as amended in 1995 (STCW 95) Conference;

4. Training of crew in Launching/Recovering Operations of Fast Rescue Boats and Means of Rescue in Adverse Weather Conditions;

5. Large Passenger Vessels;

6. Validation of an IMO model course on assessment of competence; and

7. Follow-up Action to the 1995 International Convention on Standards of Training, Certification and Watchkeeping for Fishing Vessel Personnel (1995 STCW F) Conference.

Documents associated with this Conference may be requested by writing to the address below. Please note that hard copies of documents associated with this Conference will not be available at this meeting.

Members of the public are invited to attend the SHC meeting up to the seating capacity of the room. For further information, or to submit views in advance of the meeting, please contact Lieutenant Commander Harden, U.S. Coast Guard, Maritime Personnel Qualifications Division (G-MSO-1), 2100 Second Street, SW., Washington, DC 20593-0001; telephone: (202) 267-0229; fax: (202) 267-4570; or e-mail: lharden@comdt.uscg.mil.

Dated: October 18, 2001.
Stephen M. Miller,
Executive Secretary, Shipping Coordinating Committee, U.S. Department of State.

[FR Doc. 01-27012 Filed 10-25-01; 8:45 am]

BILLING CODE 4710-07-P